FEDERAL COMMUNICATIONS COMMISSION

47 CFR Part 1

[WT Docket No. 17-79; Report No. 3099]

Petitions for Reconsideration of Action in Rulemaking Proceeding

AGENCY: Federal Communications Commission.

ACTION: Petitions for reconsideration.

SUMMARY: The National Association of Telecommunications Officers and Advisors (NATOA) requests reconsideration of the Order's finding that deployments of small wireless facilities, as defined in the Order, are not subject to review under the National Historic Preservation Act (“NHPA”) and the National Environmental Policy Act of 1969 (“NEPA”). PTA-FLA, Inc. requests that the Commission also determine that structures between 50 feet and 199 feet are not subject to review under NEPA and NHPA. PTA-FLA also requests changes to Commission's procedures for notifying tribal governments of proposed structures. Various petitioners seek reconsideration of the Order because they assert that small cell facilities must complete review under the NHPA and NEPA.

DATES: Oppositions to the Petition must be filed on or before September 6, 2018. Replies to an opposition must be filed on or before September 17, 2018.

ADDRESSES: Federal Communications Commission, 445 12th Street SW, Washington, DC 20554.

FOR FURTHER INFORMATION CONTACT: Leon Jackler, Wireless Telecommunications Bureau, at: (202) 418-0946; email: Leon.Jackler@fcc.gov.

SUPPLEMENTARY INFORMATION: This is a summary of the Commission's document, Report No. 3099, released July 24, 2018. The full text of the Petitions is available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5.U.S.C. because no rules are being adopted by the Commission.

Number of Petitions Filed: 54.

Petitions for Reconsideration (Petitions) have been filed in the Commission's Rulemaking proceeding by Elaine R Unger, Cynthia Baughman, Lisa Cline and Rebecca Carol Smith. William Kenny Now, on behalf of Friends of Merrymeeting Bay, Mary Beth Brangan, Laura Allred, Joann Fox, Chuch Matzker, John M. Unger, Sue Present, Jacqueline J Shrontz, Sue Present, John Dankowski, Molly P Hauck. Pacia J. Harper, Ronald A. Fisher, Donna Desanto Ott PT, DPT, MS, FMCHC, Evelyn Savarin, Thomas Maslar, Naveen Albert, Jaclyn and David Kramer, Lucy Hackett, Andrew Hackett, Sarah Kendall, Allan D. Sikorski, Michael Kendall, Gary Swittel, Mary Kay Swittel, Leah Spitzer, Susan L. Benson, Daniel Kleiber, Susan B. Flemming, Catherine Kleiber, Molly Perkings, Hauck, Debra Albus, Michele Hertz, Alexandra Ansell, Cynthia Franklin, Michael Lipa, Rita Lipa, Victoria Sievers. Kate Kheel, Jonathan Mirin, Susan Riedeman and Pamela J. Ericson. Matt Huck, on behalf of Truth &Facts Never Lie, Becky Huck and Olemara Peters. Nancy L. Werner, on behalf of NATOA. Donald J. Evans, on behalf of PTA-FLA, Inc., and B Golomb.

Federal Communications Commission.
Marlene Dortch,
Secretary, Office of the Secretary.

[FR Doc. 2018-17299 Filed 8-21-18; 8:45 am]

BILLING CODE 6712-01-P